ENVIRONMENTAL PROTECTION AGENCY

[ER-FRL-6648-1]

Environmental Impact Statements; Notice of Availability

Responsible Agency: Office of Federal Activities, General Information (202) 564-7167 or http://www.epa.gov/compliance/nepa.

Weekly receipt of Environmental Impact Statements

Filed January 26, 2004, Through January 30, 2004,

Pursuant to 40 CFR 1506.9.

EIS No. 040044, FINAL EIS, COE, IL, Programmatic EIS—East St. Louis and Vicinity, Illinois Ecosystem Restoration and Flood Damage Reduction Project, Implementation, Madison and St. Clair Counties, IL, Wait Period Ends: March 8, 2004, Contact: Deborah Roush (314) 331-8033.

EIS No. 040045, DRAFT EIS, FHW, TX, Grand Parkway (State Highway TX-99) Segment F-2 from TX-249 to Interstate Highway (IH) 45 Construction of a New Location Facility, Right-of-Way Permit and U.S. Army COE Section 404 Permit, City of Houston, Harris County, TX, Comment Period Ends: May 7, 2004, Contact: John R. Mack (512) 536-5960.

EIS No. 040046, FINAL EIS, FHW, OH, OH-161/37 Improvement, from OH-161 (New Albany Bypass) to west of OH-161/37 Interchange with OH-16, Funding, Franklin and Licking Counties, OH, Wait Period Ends: March 8, 2004, Contact: Dennis Decker (614) 469-6896.

EIS No. 040047, DRAFT EIS, FHW, MN, I-94/TH-10 Interregional Connection from St. Cloud to Becker, Transportation Improvements, Funding and U.S. Army COE Section 404 Permit, In the Cities of Becker and St. Cloud, Sherurne, Stearns and Wright Counties, MN, Comment Period Ends: March 23, 2004, Contact: Cheryl Martin (651) 291-6120. This document is available on the Internet at: http://www.fhwa.dot.gov/mndiv/.

EIS No. 040048, DRAFT EIS, AFS, MN, Virginia Forest Management Project Area, To Conduct Resource Management Activities on the 101,000 Acres of Federal Land, Superior National Forest, Eastern Region, St. Louis County, MN, Comment Period Ends: March 22, 2004, Contact: Susan Duffy (218) 229-8832. This document is available on the Internet at: http://www.superiornationalforest.org/.

EIS No. 040049, FINAL EIS, COE, WA, Centralia Flood Damage Reduction Project, Chehalis River, Lewis and Thurston Counties, WA, Wait Period Ends: March 8, 2004, Contact: George Hart (206) 764-3641. This document is available on the Internet at: http://www.nws.usace.army.mil.

EIS No. 040050, DRAFT EIS, NAS, FL, International Space Research Park (ISRP) To Bring New Research and Development Uses to the John F. Kennedy Center, Brevard County, FL, Comment Period Ends: March 22, 2004, Contact: Mario Busacca (321) 867-8456.

EIS No. 040051, FINAL EIS, FHW, CA, I-880/CA-92 Interchange Reconstruction, I-880 from Winton Avenue to Tennyson Road and CA-92 from Hesperian Boulevard to Santa Clara Street, Updated Information, Funding, City of Hayward, Alameda County, CA, Wait Period Ends: March 8, 2004, Contact: Maiser Khaled (916) 498-5020.

EIS No. 040052, FINAL EIS, BLM, OR, Timbered Rock Fire Salvage and Elk Creek Watershed Restoration Project, Implementation, Northwest Forest Plan, Butte Falls Resource Area, Medford District, Douglas, Jackson and Josephine Counties, OR, Wait Period Ends: March 8, 2004, Contact: Jean Williams (541) 840-9989.

EIS No. 040053, DRAFT EIS, COE, CA, Mare Island Reuse of Dredged Material Disposal Ponds, Issuing Section 404 Permit under the Clean Act and Section 10 Permit under the Rivers and Harbor Act, San Francisco Bay Area, City of Vallejo, Solando County, CA, Comment Period Ends: March 22, 2004, Contact: Elizabeth Dyer (415) 977-8451. This document is available on the Internet at: http://www.mareisland.org.

EIS No. 040054, FINAL SUPPLEMENT, NOA, MA, ME, RI, NH, CT, VT, NY, NJ, DE, MD, VA and NC, Northeast Multispecies Fishery Management Plan Amendment 13, Provides Detailed Information concerning Management Alternatives and Impact Analysis, Adoption, Approval and Implementation, New England Management Council, ME, NH, VT, MA, RI, CT, NY, NJ, DE, MD, VA and NC, Wait Period Ends: March 8, 2004, Contact: Paul Howard (978) 465-0492.

Dated: February 3, 2004.
Ken Mittelholtz,
Environmental Protection Specialist, Office of Federal Activities.

[FR Doc. 04-2628 Filed 2-5-04; 8:45 am]

BILLING CODE 6560-50-P